DEPARTMENT OF HEALTH AND HUMAN SERVICES

Food and Drug Administration

[Docket No. 99N-1075]

Public Health Impact of Vibrio Parahaemolyticus in Raw Molluscan Shellfish; Notice of Meeting

AGENCY: Food and Drug Administration, HHS.

ACTION: Notice of meeting.

The Food and Drug Administration (FDA) is announcing the following meeting on: Vibrio parahaemolyticus in raw molluscan shellfish and human health. The purpose of the meeting is to receive comments on the technical aspects of the draft risk assessment on the relationship between Vibrio parahaemolyticus in raw molluscan shellfish and human health. Notice of availability of the draft risk assessment was previously published in the Federal Register of January 19, 2001.

Date and Time: The meeting will be held on March 20, 2001, 9 a.m. to 3 p.m.

Location: The meeting will be held at the Hilton Hotel-Crystal City, 2399 Jefferson Davis Hwy., Arlington, VA 22202.

Contact: Catherine M. DeRoever, Center for Food Safety and Applied Nutrition (HFS-6), Food and Drug Administration, 200 C St. SW., Washington, DC 20204, 202-205-251, FAX 202-205-4970, e-mail cderoeve@cfsan.fda.gov.

Agenda: FDA is seeking comments on the draft risk assessment in the following areas: (1) The assumptions made, (2) the modeling technique, (3) the data used, and (4) the transparency of the draft risk assessment document. FDA will review and evaluate all public comments and make modifications to the risk assessment, as appropriate.

Registration and Requests for Oral Presentation: Send registration information (including name, title, firm name, address, telephone, and fax number) to the contact person by March 14, 2001. Interested persons may present data, information, or views orally or in writing, on the draft risk assessment on the relationship between V. parahaemolyticus in raw molluscan shellfish and human health. Written submissions must also be made to the contact person by March 14, 2001. Time allotted for each presentation may be limited. If you wish to make a formal oral presentation, you should notify the contact person before March 14, 2001, and be prepared to provide a brief statement of the general nature of the evidence you wish to present.

If you need special accommodations due to a disability, please contact Catherine M. DeRoever (address above) at least 7 days in advance.

Transcripts: Transcripts of the meeting may be requested in writing from the Freedom of Information Office (HFI-35), Food and Drug Administration, 5600 Fishers Lane, rm. 12A-16, Rockville, MD 20857, approximately 15 working days after the meeting at a cost of 10 cents per page.

Dated: February 28, 2001.
Ann M. Witt,
Acting Associate Commissioner for Policy.

[FR Doc. 01-5462 Filed 3-1-01; 4:23 pm]

BILLING CODE 4162-01-S